ENVIRONMENTAL PROTECTION AGENCY

40 CFR Part 52

[EPA-R06-OAR-2004-TX-0001; FRL-8007-4]

Approval and Promulgation of Implementation Plans; Texas; Memoranda of Understanding Between Texas Department of Transportation and the Texas Commission on Environmental Quality

AGENCY: Environmental Protection Agency (EPA).

ACTION: Proposed rule.

SUMMARY: EPA is proposing to approve a State Implementation Plan (SIP) revision submitted by the Texas Commission on Environmental Quality (TCEQ) on August 15, 2002. This SIP revision approves the adoption by reference of a Memorandum of Understanding (MOU) between the TCEQ and the Texas Department of Transportation (TxDOT). The MOU is adopted into the Texas rule at 30 TAC, Chapter 7, Section 119. This MOU concerns the coordination of environmental reviews associated with transportation projects. The adoption by reference of this MOU, will streamline coordination between the TCEQ and TxDOT by consolidating separate MOUs currently in the air and water regulations. This action is important to satisfy the need of the Commission and TxDOT to coordinate regulatory programs and to ensure that overlapping areas of responsibility are clarified. This approval will make the MOU revised regulations Federally enforceable.

DATES: Comments must be received by January 11, 2006.

ADDRESSES: Comments may be mailed to Mr. Thomas Diggs, Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Alima Patterson, State/Oversight Section (6PD-O), Environmental Protection Agency, Region 6, 1445 Ross Avenue, Suite 700, Dallas, Texas 75202-2733, telephone (214) 665-7247; fax number 214-665-7263; e-mail address patterson.alima@epa.gov.

SUPPLEMENTARY INFORMATION: In the final section of this Federal Register, EPA is approving the State's SIP submittal as a direct rule without prior proposal because the Agency views this as a noncontroversial submittal and anticipates no adverse comments. A detailed rationale for the approval is set forth in the direct final rule. If no adverse comments are received in response to this action no further activity is contemplated. If EPA receives adverse comments, the direct final rule will be withdrawn and all public comments received will be addressed in a subsequent final rule based on this proposed rule. EPA will not institute a second comment period. Any parties interested in commenting on this action should do so at this time.

For additional information, see the direct final rule which is located in the rules section of this Federal Register.

Dated: November 18, 2005.
Richard E. Greene,
Regional Administrator, Region 6.

[FR Doc. 05-23914 Filed 12-9-05; 8:45 am]

BILLING CODE 6560-50-P